DEPARTMENT OF THE INTERIOR

Bureau of Land Management

[NV-923-1310-FI; NVN-75674, NVN-75675, NVN-75676, NVN-75677 and NVN-75678; 8-08807; TAS: 14x1109]

Notice of Proposed Reinstatement of Terminated Oil and Gas Leases; Nevada

AGENCY: Bureau of Land Management, Interior.

ACTION: Notice.

SUMMARY: Pursuant to the provisions of 30 U.S.C. 188(d) and (e), and 43 CFR 3108.2-3(a) and (b)(1), a petition for reinstatement of oil and gas leases NVN-75674, NVN-75675, NVN-75676, NVN-75677 and NVN-75678 for lands in Elko County, Nevada, was timely filed and was accompanied by all the required rentals accruing from May 1, 2006, the date of termination. No valid lease has been issued affecting the lands. The lessee, Cedar Strat Corp. has agreed to new lease terms for rentals and royalties at rates of $5 per acre or fraction thereof and 16-2/3 percent, respectively. Cedar Strat Corp. has paid the required $500 administrative fee and has reimbursed the Bureau of Land Management for the cost of this Federal Register notice. Cedar Strat Corp. has met all the requirements for reinstatement of the lease as set out in sections 31(d) and (e) of the Mineral Leasing Act of 1920 (30 U.S.C. 188), and the Bureau of Land Management is proposing to reinstate the lease effective May 1, 2006, subject to the original terms and conditions of the lease and the increased rental and royalty rates cited above.

FOR FURTHER INFORMATION CONTACT: Chris Pulliam, BLM Nevada State Office, 775-861-6506.

(Authority: 43 CFR 3108.2-3(a))

Dated: December 12, 2007.
Gary Johnson,
Deputy State Director, Minerals Management.

[FR Doc. E7-24696 Filed 12-19-07; 8:45 am]

BILLING CODE 4310-HC-P